BROADCASTING BOARD OF GOVERNORS

Sunshine Act Meeting

DATE AND TIME: Wednesday, August 13, 2014, 9:00 a.m.-1:00 p.m. EDT.

PLACE: Cohen Building, Room 3321, 330 Independence Ave. SW., Washington, DC 20237.

SUBJECT: Notice of Meeting of the Broadcasting Board of Governors.

SUMMARY: The Broadcasting Board of Governors (Board) will be meeting at the time and location listed above. The Board will vote on a consent agenda consisting of the minutes of its June 20, 2014 meeting and a resolution to change the BBG meeting date in October 2014. The Board will discuss and vote on FY 2015 regional strategies based on this year's strategy review and consider establishing new Board special committees. The Board will also receive a report by its Special Committee on the Future of Shortwave Broadcasting. Finally, the Board will receive a presentation providing an overview of Radio Free Europe/Radio Liberty and engage in a conversation with the Deputy National Security Adviser for Strategic Communication.

This meeting will also be available for public observation via streamed webcast, both live and on-demand, on the agency's public Web site at www.bbg.gov. Information regarding this meeting, including any updates or adjustments to its starting time, can also be found on the agency's public Web site.

The public may also attend this meeting in person at the address listed above as seating capacity permits. Members of the public seeking to attend the meeting in person must register at https://bbgboardmeetingaugust2014.eventbrite.com by 12:00 p.m. (EDT) on August 12. For more information, please contact BBG Public Affairs at (202) 203-4400 or by email at pubaff@bbg.gov.

CONTACT PERSON FOR MORE INFORMATION: Persons interested in obtaining more information should contact Oanh Tran at (202) 203-4545.

Oanh Tran,
Director of Board Operations.

[FR Doc. 2014-18910 Filed 8-6-14; 11:15 am]

BILLING CODE 8610-01-P